DEPARTMENT OF ENERGY

Federal Energy Regulatory Commission

Combined Notice of Filings #1

Take notice that the commission received the following accounting Request filings:

Docket Numbers: AC25-39-000.

Applicants: San Diego Gas & Electric Company.

Description: San Diego Gas & Electric Company submits journal entries to clear Account 102 re the sale of certain electric distribution facilities to the Viejas Band of Kumeyaay Indians, effective July 5, 2024.

Filed Date: 12/19/24.

Accession Number: 20241219-5315.

Comment Date: 5 p.m. ET 1/9/25.

Take notice that the Commission received the following exempt wholesale generator filings:

Docket Numbers: EG25-66-000.

Applicants: Chillingham Storage LLC.

Description: Chillingham Storage LLC submits Notice of Self-Certification of Exempt Wholesale Generator Status.

Filed Date: 12/19/24.

Accession Number: 20241219-5143.

Comment Date: 5 p.m. ET 1/9/25.

Docket Numbers: EG25-67-000.

Applicants: Padua Grid, LLC.

Description: Padua Grid, LLC submits Notice of Self-Certification of Exempt Wholesale Generator Status.

Filed Date: 12/19/24.

Accession Number: 20241219-5266.

Comment Date: 5 p.m. ET 1/9/25.

Take notice that the Commission received the following electric rate filings:

Docket Numbers: ER21-2460-009.

Applicants: New York Independent System Operator, Inc.

Description: Compliance filing: NYISO Compliance Filing re: Apr 2023 Order on NYISO Order No. 2222 Compliance to be effective 12/31/9998.

Filed Date: 12/19/24.

Accession Number: 20241219-5247.

Comment Date: 5 p.m. ET 1/9/25.

Docket Numbers: ER24-627-004.

Applicants: Mammoth North LLC.

Description: Compliance filing: Compliance to 2 with zero and new rate to be effective 6/30/2024.

Filed Date: 12/19/24.

Accession Number: 20241219-5207.

Comment Date: 5 p.m. ET 1/9/25.

Docket Numbers: ER25-722-001.

Applicants: Southwest Power Pool, Inc.

Description: Tariff Amendment: 4346 WAPA/Black Hills Electric/Rushmore Electric Inter Agr—Amended Filing to be effective 12/16/2024.

Filed Date: 12/19/24.

Accession Number: 20241219-5311.

Comment Date: 5 p.m. ET 1/9/25.

Docket Numbers: ER25-759-000.

Applicants: Southwest Power Pool, Inc.

Description: 205(d) Rate Filing: 3125R17 Basin Electric Power Cooperative NITSA and NOA to be effective 12/1/2024.

Filed Date: 12/19/24.

Accession Number: 20241219-5003.

Comment Date: 5 p.m. ET 1/9/25.

Docket Numbers: ER25-760-000.

Applicants: American Transmission Systems, Incorporated.

Description: 205(d) Rate Filing: ATSI submits Revised Interconnection Agreement (IA) SA No. 3994 to be effective 2/18/2025.

Filed Date: 12/19/24.

Accession Number: 20241219-5018.

Comment Date: 5 p.m. ET 1/9/25.

Docket Numbers: ER25-761-000.

Applicants: Midcontinent Independent System Operator, Inc.

Description: 205(d) Rate Filing: 2024-12-19_SA 4415 Wolverine Power-Wolverine Power GIA (Burnips) to be effective 12/11/2024.

Filed Date: 12/19/24.

Accession Number: 20241219-5053.

Comment Date: 5 p.m. ET 1/9/25.

Docket Numbers: ER25-762-000.

Applicants: PJM Interconnection, L.L.C.

Description: 205(d) Rate Filing: Amendment to ISA No. 6312; Queue No. AE2-297 to be effective 2/18/2025.

Filed Date: 12/19/24.

Accession Number: 20241219-5082.

Comment Date: 5 p.m. ET 1/9/25.

Docket Numbers: ER25-763-000.

Applicants: Southwest Power Pool, Inc.

Description: 205(d) Rate Filing: 3552R6 TEA and MEAN Meter Agent Agreement to be effective 12/1/2024.

Filed Date: 12/19/24.

Accession Number: 20241219-5092.

Comment Date: 5 p.m. ET 1/9/25.

Docket Numbers: ER25-764-000.

Applicants: Southwest Power Pool, Inc.

Description: 205(d) Rate Filing: 607R47 Evergy Kansas Central, Inc. NITSA NOA to be effective 12/1/2024.

Filed Date: 12/19/24.

Accession Number: 20241219-5177.

Comment Date: 5 p.m. ET 1/9/25.

Docket Numbers: ER25-765-000.

Applicants: Beowawe Power, LLC.

Description: Initial Rate Filing: Petition for Approval of Initial Market-Based Rate Tariff to be effective 12/20/2024.

Filed Date: 12/19/24.

Accession Number: 20241219-5218.

Comment Date: 5 p.m. ET 1/9/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 19, 2024.
Carlos D. Clay,
Acting Deputy Secretary.

[FR Doc. 2024-31069 Filed 12-26-24; 8:45 am]

BILLING CODE 6717-01-P